DEPARTMENT OF STATE

[Public Notice 5213]

Bureau of Educational and Cultural Affairs (ECA) Request for Grant Proposals: English Access Microscholarship Program

Announcement Type: New Cooperative Agreement.

Funding Opportunity Number: ECA/A/L-06-02.

Catalog of Federal Domestic Assistance Number: 00.000.

Key Dates:

Application Deadline: January 5, 2006.

Executive Summary: The English Access Microscholarship Program is designed to give non-elite, 14 to 18 year old students in countries with significant Muslim populations the opportunity to study English, to gain an appreciation for American culture and values, and to increase their ability to participate successfully in the socio-economic development of their countries. The microscholarships fund in-country study for classes close to the students' homes. While the English Access Microscholarship Program does not support study in the United States, the Program does provide for two Summer workshops, one for selected Directors and teachers and the other for selected students. In addition to providing quality instruction in the English language, all courses in which microscholarship students are enrolled must include significant U.S. content that gives the students insights into, and an appreciation for, American culture and values, and American democratic principles. Another important goal of the English Access Microscholarship Program is for a reasonable number of the students to acquire sufficient English language skills to be eligible to participate in traditional ECA exchange programs or other U.S. study opportunities.

I. Funding Opportunity Description

Authority: Overall grant making authority for this program is contained in the Mutual Educational and Cultural Exchange Act of 1961, Public Law 87-256, as amended, also known as the Fulbright-Hays Act. The purpose of the Act is “to enable the Government of the United States to increase mutual understanding between the people of the United States and the people of other countries* * *; to strengthen the ties which unite us with other nations by demonstrating the educational and cultural interests, developments, and achievements of the people of the United States and other nations* * *and thus to assist in the development of friendly, sympathetic and peaceful relations between the United States and the other countries of the world.” The funding authority for the Program above is provided through legislation.

Pending availability of funds, it is anticipated that up to $8.75 million will be available to support this initiative in FY-2006. Middle East Partnership Initiative (MEPI) funds will be used to support the Program in the Near East/North Africa region, where allowable (i.e., all but Syria, Iraq, Libya.) The Program may expand significantly in FY-2007.

Purpose: The English Access Microscholarship Program gives non-elite, 14 to 18 year old students in countries with significant Muslim populations the opportunity to study English, to gain an appreciation for American culture and values, and to increase their ability to participate successfully in the socio-economic development of their countries. The Bureau of Educational and Cultural Affairs' Office of English Language Programs (ECA/A/L), based on input from U.S. Embassies' Public Affairs sections, designates the schools or other educational service providers that conduct the classes. (Note: Throughout this Request for Grant Proposals, these schools, NGOs and other partners will be referred to as “in-country educational service providers.”) The Embassies select the students to receive microscholarships. The microscholarships fund in-country study for classes close to the students' homes. English Access Microscholarships do not support study in the United States. Because of the Program's worldwide scope, the method of instruction, curriculum, textbooks, tests, hours of instruction, cost per student, and other program elements may vary considerably from country to country, and sometimes within a single country.

Background: In FY-2004 the Department of State launched the English Access Microscholarship Program as a pilot Program in most of the countries of the Bureau of Near Eastern Affairs. The Bureau of Educational and Cultural Affairs subsequently expanded the pilot Program to include countries with significant Muslim populations beyond the Near East region. Under the pilot phase, over 9,000 students in 44 countries enrolled in the Program. The Program currently is operating in Algeria, Bahrain, Gaza, Israel, Kuwait, Lebanon, Morocco, Oman, Qatar, Saudi Arabia, Syria, Tunisia, the United Arab Emirates, West Bank, Yemen, Benin, Burkina Faso, Chad, Congo, the Democratic Republic of Congo, Kenya, Mozambique, Niger, Nigeria, Senegal, Tanzania, Togo, Afghanistan, Bangladesh, India, Pakistan, Cambodia, Indonesia, Malaysia, Thailand, Bosnia Herzegovina, Russia, Tajikistan, Turkey, Turkmenistan, and Uzbekistan.

Program Goals: In addition to providing quality instruction in the English language, all courses in which microscholarship students are enrolled are required to have adequate and appropriate content to give the students insights into, and an appreciation for, American culture and values. Another important goal of the English Access Microscholarship Program is for a reasonable number of the students to acquire sufficient English language skills to be eligible to participate in traditional ECA exchange programs or other U.S. study opportunities.

Cooperative-agreement recipient Responsibilities: The cooperative-agreement recipient organization that is awarded the English Access Microscholarship Program cooperative-agreement from the Bureau will be responsible for the following activities:

1. Disbursing funds to in-country educational service providers in each of the participating countries. The in-country educational service providers are schools, NGOs or other educational providers selected by U.S. Embassies to enroll the microscholarship students. The amounts to be disbursed, as well as the in-country educational service providers, are determined by ECA/A/L in consultation with U.S. Embassies and the State Department's regional bureaus' Public Diplomacy offices.

Note: Selection of the in-country educational service provider(s) in each country must be approved in writing by both the U.S. Embassy and ECA/A/L. The Embassy must ensure that the selection process is transparent and competitive, detailing in writing to ECA/A/L the steps it has taken to render it such. If the cooperative-agreement recipient organization also is selected by an Embassy to be an in-country educational service provider, strict internal financial and management procedures must be established to ensure that the two roles are distinct. For example, separate accounts must be established to preclude co-mingling of funds, separate support staff must be maintained, etc.

Ideally, the cooperative-agreement recipient makes one disbursement to each in-country educational service provider per year, but ECA/A/L may authorize additional disbursements as necessary based on program requirements. Individual disbursements to in-country educational service providers will vary in size depending on the size of the Program in each country, ranging from a few thousand dollars up to several hundred thousand dollars per in-country educational service provider.

Additionally, the cooperative-agreement recipient, under the close supervision of with ECA/A/L, will:

2. Plan, conduct, and fund a two-week workshop in the U.S. for approximately 12-15 (twelve to fifteen) teachers and directors of the Program, chosen by ECA/A/L from nominations by Embassies. The workshop will focus on developing “best practices” managerial and pedagogical recommendations.

3. Plan, conduct, and fund a three-week workshop in the U.S. for approximately 20-25 (twenty to twenty-five) English Access Microscholarship Program students, chosen by ECA/A/L from nominations by Embassies. The workshop will focus on giving the students an immersion experience in American culture and the English language and will entail travel to several cities and diverse regions in the United States.

4. Develop and maintain a secure, limited-access database containing relevant program information for English Access Microscholarship students and in-country educational service providers. Database information on each student will include: His/her name, age, grade in school, contact information, nationality, gender, test scores, hours of instruction received, educational institution/in-country educational service provider, cost per hour of instruction, date enrolled, date graduated, participation in other USG-funded programs, etc. Database information on each in-country educational service provider will include: Contact information for the director; name of each teacher employed, his/her educational background and contact information (address, e-mail, etc.); course start and end dates; running, quarterly, and yearly cost totals for program countries, in-country educational service providers, and courses; etc. The database also will include additional information as identified by ECA/A/L, such as details of corporate and/or private partnership support for the Program. The cooperative-agreement recipient will submit quarterly and end-of-year reports (soft and hard copies) of database information in EXCEL spreadsheet format to ECA/A/L.

Cooperative Agreement: In a cooperative agreement, ECA/A/L is substantially involved in the program activities, above and beyond routine grant monitoring. ECA/A/L activities and responsibilities for this Program are as follows:

—Selects, based on input from U.S. Embassies and the State Department's regional bureaus' public diplomacy offices, the students who receive the microscholarships;

—Selects, based on input from U.S. Embassies and the State Department's regional bureaus' public diplomacy offices, the in-country educational service providers (schools, NGOs, in-country educational service providers, etc.) that will provide English language instruction to the microscholarship students;

—Determines, based on input from U.S. Embassies and the State Department's regional bureaus' public diplomacy offices, the amount and timing of financial disbursements by the cooperative-agreement recipient to the in-country educational service providers;

—Serves, except for routine disbursements and other transactions approved in advance by ECA/A/L, as the cooperative-agreement recipient's primary point of contact and intermediary with the in-country educational service providers and teachers involved in the Program. Similarly, ECA/A/L serves as the primary point of contact and intermediary with the U.S. Embassies and students involved in the Program.

II. Award Information

Type of Award: Cooperative Agreement. ECA's level of involvement in this Program is listed under number I above.

Fiscal Year Funds: 2006.

Approximate Total Funding: Pending availability of funds, $8.75 million, $4 million from the FY-2006 Exchanges Appropriation and up to $4.75 million from a transfer from the State Department Middle East Partnership Initiative (MEPI).

Approximate Number of Awards: One.

Approximate Average Award: $8.75 million.

Floor of Award Range: $4 million.

Ceiling of Award Range: $8.75 million.

Anticipated Award Date: Pending availability of funds, March 15, 2006.

Anticipated Project Completion Date: March 15, 2007.

Additional Information: Pending successful implementation of this Program, and the availability of funds in subsequent fiscal years, it is ECA's intent to renew this grant/cooperative-agreement for two additional fiscal years, before openly competing it again. Subsequent grants may include activities to extend the Program to other countries with young, non-elite students throughout the world. Subsequent grants will not include start up costs for certain activities described in this RFGP and the Project Objectives, Goals, and Implementation (POGI) as being completed in FY06.

III. Eligibility Information

III.1. Eligible applicants: Applications may be submitted by public and private non-profit organizations meeting the provisions described in Internal Revenue Code section 26 U.S.C. 501(c)(3).

III.2. Cost Sharing or Matching Funds; Minimizing indirect costs: Although there is no minimum or maximum percentage required for this competition, the Bureau encourages applicants to provide maximum levels of cost sharing and funding in support of its programs. We also ask that proposals minimize the inclusion of indirect costs as a component of institutional cost sharing.

When cost sharing is offered, it is understood and agreed that the applicant must provide the amount of cost sharing as stipulated in its proposal and later included in an approved grant agreement. Cost sharing may be in the form of allowable direct or indirect costs, and, as stated above, the Bureau encourages proposals that minimize indirect costs in this calculation. For accountability, the cooperative-agreement recipient must maintain written records to support all costs which are claimed as your contribution, as well as costs to be paid by the Federal government. Such records are subject to audit. The basis for determining the value of cash and in-kind contributions must be in accordance with OMB Circular A-110, (Revised), Subpart C.23—Cost Sharing and Matching. In the event the cooperative-agreement recipient does not provide the minimum amount of cost sharing as stipulated in the approved budget, ECA's contribution will be reduced in like proportion.

III.3. Other Eligibility Requirements: Bureau grant guidelines require that organizations with less than four years experience in conducting international exchanges be limited to $60,000 in Bureau funding. ECA anticipates awarding one grant, in an amount up to $8.75 million to support program and administrative costs required to implement this exchange program. Therefore, organizations with less than four years experience in conducting international exchanges are ineligible to apply under this competition. The Bureau encourages applicants to provide maximum levels of cost sharing and funding in support of its programs.

IV. Application and Submission Information

Note: Please read the complete Federal Register announcement before sending inquiries or submitting proposals. Once the RFGP deadline has passed, Bureau staff may not discuss this competition with applicants until the proposal review process has been completed.

IV.1 Contact Information to Request an Application Package: Please contact the Office of English Language Programs, ECA/A/L, Room 304, U.S. Department of State, SA-44, 301 4th Street, SW., Washington, DC 20547, (202) 453-8843, fax (202) 453-8854, e-mail: uzarskij@state.gov to request a Solicitation Package. Please refer to the Funding Opportunity Number ECA/A/L-06-02 located at the top of this announcement when making your request.

The Solicitation Package contains the Proposal Submission Instruction (PSI) document which consists of required application forms, and standard guidelines for proposal preparation.

It also contains the Project Objectives, Goals and Implementation (POGI) document, which provides specific information, award criteria and budget instructions tailored to this competition.

Please specify Ms. Joëlle Uzarski and refer to the Funding Opportunity Number ECA/A/L-06-02 located at the top of this announcement on all other inquiries and correspondence.

IV.2. To Download a Solicitation Package Via Internet: The entire Solicitation Package may be downloaded from the Bureau's Web site at http://exchanges.state.gov/education/rfgps/menu.htm. Please read all information before downloading.

IV.3. Content and Form of Submission: Applicants must follow all instructions in the Solicitation Package. The original and 15 copies of the application should be sent per the instructions under IV.3e. “Submission Dates and Times section” below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please Refer to the Solicitation Package. It contains the mandatory Proposal Submission Instructions (PSI) document—and the Project Objectives, Goals and Implementation (POGI) document—for additional formatting and technical requirements.

IV.3c. An applicant must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1 Adherence To All Regulations Governing The J Visa:The Bureau of Educational and Cultural Affairs is placing renewed emphasis on the secure and proper administration of Exchange Visitor (J visa) Programs and adherence by grantees and sponsors to all regulations governing the J visa. Therefore, proposals should demonstrate the applicant's capacity to meet all requirements governing the administration of the Exchange Visitor Programs as set forth in 22 CFR 62, including the oversight of Responsible Officers and Alternate Responsible Officers, screening and selection of program participants, provision of pre-arrival information and orientation to participants, monitoring of participants, proper maintenance and security of forms, record-keeping, reporting and other requirements. The cooperative-agreement recipient will be responsible for issuing DS-2019 forms to foreign participants in this Program traveling to the United States.

A copy of the complete regulations governing the administration of Exchange Visitor (J) programs is available at http://exchanges.state.gov or from: United States Department of State, Office of Exchange Coordination and Designation, ECA/EC/ECD-SA-44, Room 734, 301 4th Street, SW.,Washington, DC 20547. Telephone: (202) 203-5029. FAX: (202) 453-8640.

Please refer to Solicitation Package for further information.

IV.3d.2. Diversity, Freedom and Democracy Guidelines: Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the “Support for Diversity” section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation: Proposals must include a plan to monitor and evaluate the project's success, both as the activities unfold and at the end of the Program. The Bureau recommends that your proposal include a draft survey questionnaire or other technique plus a description of a methodology to use to link outcomes to original project objectives, capturing data regarding hours of instruction, costs per hour of instruction, student-teacher ratios, teacher qualifications, significant program enhancements, textbook types, student placement and achievement test scores, impact of American-based curriculum on students' attitudes and activities, etc.

The Bureau specifically recommends that applicants submit a plan and budget for both of the two-week workshops to be conducted under the terms of this cooperative-agreement: a workshop in the U.S. for approximately 12-15 (twelve to fifteen) teachers and directors of overseas English Access Microscholarship Program in-country educational service providers to be selected by ECA/A/L; and a three-week workshop in the U.S. for approximately 20-25 (twenty to twenty-five) English Access Microscholarship Program students focusing on American culture and the English language. ECA/A/L will closely supervise the cooperative-agreement recipient's activities in the development of these plans and will have final approval authority of same.

The Bureau expects that the cooperative-agreement recipient will track data regarding microscholarship recipients and in-country educational service providers and be able to respond to key evaluation questions, including satisfaction with the Program, learning as a result of the Program, changes in attitude and behavior as a result of the Program, and effects of the Program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the Program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the Program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Grantees will be required to provide reports analyzing their evaluation findings to the Bureau in their regular program reports. All data collected, including survey responses and contact information, must be maintained for a minimum of three years and provided to the Bureau upon request.

IV.3d.4. Describe your plans for: i.e. sustainability, overall program management, staffing, coordination with ECA and U.S. Embassies public affairs sections, or any other requirements etc.

IV.3e. Please take the following information into consideration when preparing your budget:

IV.3e.1. Applicants must submit a comprehensive budget for the entire Program (not to exceed $8.75 million). There must be a summary budget as well as breakdowns reflecting both administrative and program budgets. Applicants may provide separate sub-budgets for each program component, phase, location, or activity to provide clarification.

IV.3e.2. Allowable costs for the Program include the following: The Bureau's goal is to maximize the number of microscholarships being made available and expects that approximately 85 (eighty-five) percent or more of the funds provided through this grant will be used for issuance of microscholarships and for implementation of other mandatory program elements described under section 1 of this RFGP.

(1) Administrative costs may include staff salaries, including staff to carry out develop and maintain the database and plan and conduct the workshop aspects/elements of the Program, including the Program Monitoring and Evaluation in IV.3d.3. of the RFGP.

(2) Travel costs should include two visits by the cooperative-agreement recipient's project director or appropriate designee to in-country educational service providers in “benchmark” countries to monitor the Program, one in the Middle East and one in another region, to be determined and conducted in consultation and coordination with ECA/A/L.

(3) The budget for planning, conducting and funding the two workshops—one for Program Directors and teachers, and the other for Program students—should include: the participants' international and domestic transportation, U.S. per diem, space rental, workshop materials, etc. For travel budgeting purposes, at least half of the participants likely will be from countries in the State Department's Bureau of Near Eastern Affairs (NEA).

Please refer to the Solicitation Package for complete budget guidelines and formatting instructions.

IV.3f. Submission Dates and Times:

Application Deadline Date: January 5, 2006.

Explanation of Deadlines:

Due to heightened security measures, proposal submissions must be sent via a nationally recognized overnight delivery service (i.e., DHL, Federal Express, UPS, Airborne Express, or U.S. Postal Service Express Overnight Mail, etc.) and be shipped no later than the above deadline. The delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. It is each applicant's responsibility to ensure that each package is marked with a legible tracking number and to monitor/confirm delivery to ECA via the Internet. ECA will not notify you upon receipt of application. Delivery of proposal packages may not be made via local courier service or in person for this competition. Faxed documents will not be accepted at any time. Only proposals submitted as stated above will be considered. Applications may not be submitted electronically at this time.

Applicants must follow all instructions in the Solicitation Package.

Important note: When preparing your submission please make sure to include one extra copy of the completed SF-424 form and place it in an envelope addressed to “ECA/EX/PM”.

The original and 15 copies of the application should be sent to: U.S. Department of State, SA-44, Bureau of Educational and Cultural Affairs, Ref.: ECA/A/L-06-02, Program Management, ECA/EX/PM, Room 534, 4th Street, SW., Washington, DC 20547.

Along with the Project Title, all applicants must enter the above Reference Number in Box 11 on the SF-424 contained in the mandatory Proposal Submission Instructions (PSI) of the solicitation document.

IV.3g. Intergovernmental Review of Applications: Executive Order 12372 does not apply to this program.

V. Application Review Information

V.1. Review Process

The Bureau will review all proposals for technical eligibility. Proposals will be deemed ineligible if they do not fully adhere to the guidelines stated herein and in the Solicitation Package. All eligible proposals will be reviewed by the program office, as well as Public Diplomacy sections overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards cooperative agreements resides with the Bureau's Grants Officer.

Review Criteria

Technically eligible applications will be competitively reviewed according to the criteria stated below. These criteria are not rank ordered and all carry equal weight in the proposal evaluation:

1. Quality of the program idea: Proposals should exhibit originality, substance, precision, and relevance to the Bureau's mission.

2. Program planning: Detailed agenda and relevant work plan should demonstrate substantive undertakings and logistical capacity. Agenda and plan should adhere to the Program overview and guidelines described above.

3. Ability to achieve Program objectives: Objectives should be reasonable, feasible, and flexible. Proposals should clearly demonstrate how the institution will meet the Program's objectives and plan.

4. Multiplier effect/impact: Proposed programs should strengthen long-term mutual understanding, including maximum sharing of information and establishment of long-term institutional and individual linkages.

5. Support of Diversity: Proposals should demonstrate the recipient's commitment to promoting the awareness and understanding of diversity. Achievable and relevant features should be cited in both program administration (selection of participants, program venue and program evaluation) and program content (orientation and wrap-up sessions, program meetings, resource materials and follow-up activities).

6. Institutional Capacity: Proposed personnel and institutional resources should be adequate and appropriate to achieve the Program's goals, and should demonstrate an institutional record of successful exchange programs, including responsible fiscal management and full compliance with all reporting requirements for past Bureau grants as determined by Bureau Grants Staff. The Bureau will consider the past performance of prior recipients and the demonstrated potential of new applicants.

7. Project Evaluation: Proposals should include a plan to evaluate the activity's success, both as the activities unfold and at the end of the Program. The Bureau recommends that the proposal include a draft survey questionnaire or other technique plus description of a methodology to use to link outcomes to original project objectives. Award-receiving organizations/institutions will be expected to submit intermediate reports after each project component is concluded or quarterly, whichever is less frequent.

8. Cost-effectiveness: The overhead and administrative components of the proposal, including salaries and honoraria, should be kept as low as possible.

9. Cost sharing: Proposals should maximize cost sharing through other private sector support as well as institutional direct funding contributions. The Bureau encourages applicants to provide maximum levels of cost sharing and funding in support of its programs. We also ask that proposals minimize the inclusion of indirect costs as a component of institutional cost sharing. See also IV.3e.2 in this RFGP regarding cost sharing.

10. Value to U.S.-Partner Country Relations: Proposed projects should receive positive assessments by the U.S. Department of State's regional public diplomacy and country desks and overseas officers of program need, potential impact, and significance in the partner country(ies).

VI. Award Administration Information

VI.1a. Award Notices:

Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2 Administrative and National Policy Requirements:Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments.”

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following websites for additional information: http://www.whitehouse.gov/omb/grants, http://exchanges.state.gov/education/grantsdiv/terms.htm#articleI.

VI.3. Reporting Requirements: You must provide ECA with a hard copy original, two copies of same, and an electronic copy on disc in EXCEL and WORD formats of the following reports:

Mandatory:

(1.) A final program and financial report no more than 90 days after the expiration of the award including the information detailed in VI.3.2 below;

(2.) Quarterly program and financial reports in WORD and EXCEL formats (soft and hard copies) including contact information and total dollars awarded to each in-country partner organization, hours of student instruction, costs per hour of instruction, student-teacher ratios, teacher qualifications, significant program enhancements, textbook types, student placement and achievement test scores, and other data outlined in IV.3d.3. above and VI.4 below.

(3.) A summary report of any program-related travel.

Grantees will be required to provide reports analyzing their evaluation findings to the Bureau in their regular program reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

VI.4. Program Data Requirements: Organizations awarded grants will be required to maintain specific data on program participants and activities in a secure, limited-access, electronically accessible database format that can be shared with the Bureau as required. At a minimum, the data must include the following:

(1) Name, address, contact information, and other data specified by ECA/A/L for all persons who receive an English Access Microscholarship, to be provided to the cooperative-agreement recipient by in-country educational service providers. See also specific data requirements as outlined in VI.3.2.

(2) Name, address, contact information and biographic sketch of all persons who travel internationally on funds provided by the grant or who benefit from the grant funding but do not travel.

(3) Itineraries of international and domestic travel, providing dates of travel and cities in which any exchange experiences take place. Final schedules for in-country and U.S. activities must be received by the ECA Program Officer at least three work days prior to the official opening of the activity.

VII. Agency Contacts

For questions about this announcement, contact: Ms. Joëlle Uzarski, Office of English Language Programs, ECA/A/L, Room 304, ECA/A/L-06-02, U.S. Department of State, SA-44, 301 4th Street, SW., Washington, DC 20547, (202) 453-8854, fax (202) 453-8858, e-mail: uzarskij@state.gov. All correspondence with the Bureau concerning this RFGP should reference the above title and number ECA/A/L-06-02

Please read the complete Federal Register announcement before sending inquiries or submitting proposals. Once the RFGP deadline has passed, Bureau staff may not discuss this competition with applicants until the proposal review process has been completed.

VIII. Other Information

Notice:

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the Program and the availability of funds. Awards made will be subject to periodic reporting and evaluation requirements per section VI.3 above.

Dated: November 2, 2005.
Dina Habib Powell,
Assistant Secretary for Educational and Cultural Affairs, Department of State.

[FR Doc. 05-22459 Filed 11-10-05; 8:45 am]

BILLING CODE 4710-05-P